DEPARTMENT OF COMMERCE

National Oceanic and Atmospheric Administration

RIN 0648-XE08

Endangered and Threatened Species; Take of Anadromous Fish

AGENCY: National Marine Fisheries Service (NMFS), National Oceanic and Atmospheric Administration (NOAA), Commerce.

ACTION: Notice.

SUMMARY: Notice is hereby given that NMFS has issued Permit 1044 Modification 4 to the NMFS Southwest Fisheries Science Center (SWFSC) Fisheries Ecology Division (FED) in Santa Cruz, California.

ADDRESSES: The application, permit, and related documents are available for review by appointment at: Protected Resources Division, NMFS, 777 Sonoma Avenue, Room 315, Santa Rosa, CA 95404 (ph: 707-575-6097, fax: 707-578-3435, e-mail at: Jeffrey.Jahn@noaa.gov).

FOR FURTHER INFORMATION CONTACT: Jeffrey Jahn at 707-575-6097, or e-mail: Jeffrey.Jahn@noaa.gov.

SUPPLEMENTARY INFORMATION:

Authority

The issuance of permits and permit modifications, as required by the Endangered Species Act of 1973 (16 U.S.C. 1531-1543) (ESA), is based on a finding that such permits/modifications: (1) are applied for in good faith; (2) would not operate to the disadvantage of the listed species which are the subject of the permits; and (3) are consistent with the purposes and policies set forth in section 2 of the ESA. Authority to take listed species is subject to conditions set forth in the permits. Permits and modifications are issued in accordance with and are subject to the ESA and NMFS regulations (50 CFR parts 222-226) governing listed fish and wildlife permits.

Species Covered in This Notice

This notice is relevant to federally threatened Southern Oregon/Northern California Coast coho salmon (Oncorhynchus kisutch), endangered Central California Coast coho salmon (O. kisutch), threatened California Coastal Chinook salmon (O. tshawytscha), endangered Sacramento River winter-run Chinook salmon (O. tshawytscha), threatened Central Valley spring-run Chinook salmon (O. tshawytscha), threatened Northern California steelhead (O. mykiss), threatened Central California Coast steelhead (O. mykiss), threatened California Central Valley steelhead (O. mykiss), threatened South-Central California Coast steelhead (O. mykiss), and endangered Southern California steelhead (O. mykiss).

Permit Issued

A notice of the receipt of an application for a scientific research permit (1044 Modification 4) was published in the Federal Register on August 16, 2006 (71 FR 47179). Permit 1044 Modification 4 was issued to SWFSC FED on July 26, 2007.

Permit 1044 Modification 4 authorizes SWFSC FED to capture (by backpack electrofishing, seine, rotary screw trap, fyke-net trap, pipe-trap, weir-trap, or hook-and-line), sample (by collection of scales, fin-clips, or stomach contents), mark (using fin-clips, passive integrated transponder (PIT) tags, visible implant elastomer (VIE) tags, or visible implant alpha (VI alpha) tags), and release juvenile Southern Oregon/Northern California Coast coho salmon, Central California Coast coho salmon, California Coastal Chinook salmon, Sacramento River winter-run Chinook salmon, Central Valley spring-run Chinook salmon, Northern California steelhead, Central California Coast steelhead, California Central Valley steelhead, South-Central California Coast steelhead, and Southern California steelhead. Permit 1044 Modification 4 also authorizes SWFSC FED to capture (by seine, weir-trap, or hook-and-line), sample (by collection of scales or fin-clips), mark (using fin-clips, PIT tags, or external anchor tags), and release adult Southern Oregon/Northern California Coast coho salmon and Northern California steelhead. In addition, Permit 1044 Modification 4 authorizes SWFSC FED to capture, handle, sample (by collection of scales, fin-clips, or other tissue), mark, and release adult carcasses of Southern Oregon/Northern California Coast coho salmon, Central California Coast coho salmon, California Coastal Chinook salmon, Sacramento River winter-run Chinook salmon, Central Valley spring-run Chinook salmon, and Northern California steelhead.

Permit 1044 Modification 4 authorizes unintentional lethal take of juvenile Southern Oregon/Northern California Coast coho salmon, Central California Coast coho salmon, California Coastal Chinook salmon, Sacramento River winter-run Chinook salmon, Central Valley spring-run Chinook salmon, Northern California steelhead, Central California Coast steelhead, California Central Valley steelhead, South-Central California Coast steelhead, and Southern California steelhead not to exceed 2.5 percent of fish captured. Permit 1044 Modification 4 authorizes unintentional lethal take of adult Southern Oregon/Northern California Coast coho salmon and Northern California steelhead not to exceed 1 percent of fish captured. Permit 1044 Modification 4 authorizes intentional lethal take of 500 juvenile Northern California steelhead, 300 juvenile Central California Coast steelhead, 300 juvenile California Central Valley steelhead, and 200 juvenile South-Central California Coast steelhead.

Permit 1044 Modification 4 is for research to be conducted in streams and estuaries throughout the State of California. The purpose of the research is to support conservation and recovery planning of ESA-listed salmonids, address information needs identified by NMFS, and contribute to the general body of scientific knowledge pertaining to ESA-listed salmonids. Permit 1044 Modification 4 expires on December 31, 2012.

Dated: November 21, 2007.
Angela Somma,
Chief, Endangered Species Division, Office of Protected Resources, National Marine Fisheries Service.

[FR Doc. E7-23093 Filed 11-26-07; 8:45 am]

BILLING CODE 3510-22-S